CORPORATION FOR NATIONAL AND COMMUNITY SERVICE

Sunshine Act Meeting

The Board of Directors of the Corporation for National and Community Service gives notice of the following meeting:

DATE AND TIME: Wednesday, September 27, 2000, 10 a.m.-12:30 p.m.

PLACE: Corporation for National Service 1201 New York Avenue, NW, 8th Floor conference room, Washington, D.C.

STATUS: Open.

MATTERS TO BE CONSIDERED:

I. Chair's Opening Remarks

II. Approval of Prior Meeting Minutes

III. Report by the Chief Executive Officer

IV. Committee Reports

A. Executive Committee

B. Management, Audit, annd Governance Committee Audit Report

C. Communications Committee

D. Planning and Evaluation Committee Strategic Plan

V. Reauthorization Update

VI. National Service Reports

Kellogg Initiative on Service Learning

Collaboration with Warner Brothers

Literacy Study

Association of State Service Commissions

VII. Future Board Meeting Dates

VIII. Public Comment

IX. Adjournment

ACCOMMODATIONS: Anyone who needs an interpreter or other accommodation should notify the Corporation's contact person.

CONTACT PERSON FOR FURTHER INFORMATION: Rhonda Taylor, Associate Director of Special Projects and Initatives, Corporation for National Service, 8th Floor, Room 8619, 1201 New York Avenue NW, Washington, D.C. 20525. Phone (202) 606-5000 ext. 282. Fax (202) 565-2794. TDD: (202) 565-2799.

Dated: September 18, 2000.
Thomasenia P. Duncan,
General Counsel, Corporation for National and Community Service.

[FR Doc. 00-24264 Filed 9-18-00; 1:20 pm]

BILLING CODE 6050-28-M